DEPARTMENT OF ENERGY

Federal Energy Regulatory Commission

[Docket Nos. EC06-87-000, et al.]

Centennial Power, Inc. et al.; Electric Rate and Corporate Filings

March 3, 2006.

The following filings have been made with the Commission. The filings are listed in ascending order within each docket classification.

1. Centennial Power, Inc., San Joaquin Cogen, L.L.C., NAPG San Joaquin Cogen, L.L.C.

[Docket No. EC06-87-000]

Take notice that on February 28, 2006 Centennial Power, Inc., NAPG San Joaquin, L.L.C., and San Joaquin Cogen, L.L.C. filed an Application Under Section 203 of the Federal Power Act For Authorization To Transfer Jurisdictional Assets of San Joaquin Cogen, L.L.C.

Comment Date: 5 p.m. Eastern Time on March 21, 2006.

2. New York Independent System Operator, Inc.

[Docket No. EL06-57-000]

Take notice that on March 3, 2006, the New York Independent System Operator, Inc. (NYISO) submitted a filing under section 206 of the Federal Power Act to extend the effective date of the current Voltage Support Service rate contained in Rate Schedule 2 of the NYISO's Services Tariff, pending further studies and work to establish a permanent Voltage Support Service rate methodology. The NYISO seeks an effective date of April 5, 2006 for this filing.

Comment Date: 5 p.m. Eastern Time on March 13, 2006.

3. ATCO Power Canada Ltd.

[Docket No. ER99-3282-006]

Take notice that on February 17, 2006, ATCO Power Canada Ltd., submitted for filing an amendment to its Triennial Filing of Changes in Status and Market Analysis.

Comment Date: 5 p.m. Eastern Time on March 6, 2006.

4. ISO New England, Inc., Kleen Energy Systems, LLC, The Connecticut Light and Power Company

[Docket No. ER06-70-001]

Take notice that on February 21, 2006, ISO New England Inc and Northeast Utilities Service Company on behalf of its affiliate, The Connecticut Light and Power Company, submitted their Standard Large Generator Interconnection Agreement.

Comment Date: 5 p.m. Eastern Time on March 14, 2006.

5. Duquesne Keystone, LLC, Duquesne Conemaugh, LLC, Duquesne Power, L.P., Duquesne Light Company, Monmouth Energy, Inc.

[Docket Nos. ER06-398-000; ER06-399-000; ER04-268-003; ER98-4159-006; ER99-1293-005]

Take notice that on December 27, 2005, Duquesne Keystone, LLC and Duquesne Conemaugh, LLC (collectively, Applicants) hereby submit for filing an application containing initial market-based rate schedules.

Comment Date: 5 p.m. Eastern Time on March 13, 2006.

6. TransCanada Corporation, TransCanada Pipelines Limited, 701671 Alberta Ltd., TransCanada Energy Ltd., TransCanada Energy Investments Ltd., TransCanada Energy Management Inc., Bruce Power Inc., Bruce Power A Inc., Huron Wind Inc., TransCanada Wind Ltd./TransCanada Eolien Ltee, TransCanada AAV Ltd., TransCanada BDS Ltd., TransCanada CAR Ltd., TransCanada GM Ltd., TransCanada LM Ltd., TransCanada MS Ltd., TransCanada PipeLine USA Ltd., TransCanada OSP Holding Ltd., TCPL OSP Ltd., TC Ocean State Corporation, TCPL Power Ltd., TCPL Ocean State Ltd.

[Docket No. PH06-6-000]

Take notice that on February 22, 2006, TransCanada Corporation filed a Notification of Petition for Exemption from the Requirements of The Public Utility Holding Company Act of 2005 pursuant to 18 CFR 366.4(b)(1), et al., on behalf of itself and its subsidiaries as mentioned above.

Comment Date: 5 p.m. Eastern Time on March 15, 2006.

7. DTE Energy Company

[Docket No. PH06-8-000]

Take notice that on February 24, 2006, DTE Energy Company filed a Petition for Waiver of the Commission's Regulations pursuant to Requirements of The Public Utility Holding Company Act of 2005, 18 CFR 366.4(c)(1) and 366.3(c)(1).

Comment Date: 5 p.m. Eastern Time on March 17, 2006.

8. Kandiyohi Power Cooperative

[Docket No. PH06-10-000]

Take notice that on February 27, 2006, Kandiyohi Power Cooperative filed a FERC-65A Exemption Notification pursuant to The Public Utility Holding Company Act of 2005, 18 CFR 366.4(b)(1).

Comment Date: 5 p.m. Eastern Time on March 20, 2006.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-3458 Filed 3-9-06; 8:45 am]

BILLING CODE 6717-01-P